DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street SW., Washington, DC 20472, (202) 646-2820, or (email) kevin.long@dhs.gov.

SUPPLEMENTARY INFORMATION: The Federal Emergency Management Agency (FEMA) makes the final determinations listed below for the modified BFEs for each community listed. These modified elevations have been published in newspapers of local circulation and ninety (90) days have elapsed since that publication. The Deputy Federal Insurance and Mitigation Administrator has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Mercer County, Illinois, and Incorporated Areas
Docket No.: FEMA-B-1035
Mississippi River | 431 miles upstream of the confluence with the Ohio River (approximately 0.1 mile downstream of 50th Street extended) | +546 | City of New Boston, Unincorporated Areas of Mercer County.
| 437 miles upstream of the confluence with the Ohio River (approximately 0.2 mile downstream of Lock & Dam Road extended) | +550
* National Geodetic Vertical Datum. | + North American Vertical Datum. | # Depth in feet above ground. | ‸ Mean Sea Level, rounded to the nearest 0.1 meter.
ADDRESSES
City of New Boston
Maps are available for inspection at City Hall, 405 Main Street, New Boston, IL 61272.
Unincorporated Areas of Mercer County
Maps are available for inspection at the Mercer County Courthouse, 100 Southeast 3rd Street, Aledo, IL 61231.
Branch County, Michigan (All Jurisdictions)
Docket No.: FEMA-B-1014
Cold Creek | At the upstream side of Jonesville Road | +963 | Township of Girard.
| Approximately 150 feet upstream of Gorbell Road | +964
Coldwater River | At the upstream side of East Fenn Road | +959 | Township of Ovid.
| Approximately 350 feet upstream of East Fenn Road | +960
County Drain 40 | Approximately 0.5 mile downstream of South Wood Road | +989 | Township of Ovid.
| At the downstream side of South Wood Road | +990
County Drain 40 | Approximately 0.8 mile north of Dorrance Road and 0.5 mile west of North Fremont Road | +981 | Township of Quincy.
| Approximately 0.5 mile north of Dorrance Road and 0.5 mile west of North Fremont Road | +981
Craig Lake Little Swan Creek | Entire shoreline | +927 | Township of Girard.
| At the downstream side of Lindley Road | +872 | Township of Matteson.
| Approximately 0.4 mile upstream of Butz Road | +892
| Approximately 1,100 feet downstream of West Colon Road | +892
| Approximately 350 feet upstream of Langwell Road | +907
Matteson Lake | Entire shoreline | +927 | Township of Matteson.
Morrison Lake Sauk River | Entire shoreline | +927 | Township of Girard.
| At the upstream side of Fox Road | +983 | Township of Quincy.
| Approximately 50 feet upstream of Fox Road | +983
* National Geodetic Vertical Datum. | + North American Vertical Datum. | # Depth in feet above ground. | ‸ Mean Sea Level, rounded to the nearest 0.1 meter.
ADDRESSES
Township of Girard
Maps are available for inspection at the Township Hall, 1009 Marshall Road, Coldwater, MI 49036.
Township of Matteson
Maps are available for inspection at the Township Hall, M-86 & Athens Road, Bronson, MI 49028.
Township of Ovid
Maps are available for inspection at the Township Hall, 114 West Front Street, Ovid, MI 49036.
Township of Quincy
Maps are available for inspection at the Quincy Public Library, 11 North Main Street, Quincy, MI 49082.
Claiborne County, Mississippi, and Incorporated Areas
Docket No.: FEMA-B-1037
Bayou Pierre | Approximately 30,000 feet downstream of Anthony Road | +92 | Unincorporated Areas of Claiborne County.
| Approximately 8,100 feet downstream of Anthony Road | +96
* National Geodetic Vertical Datum.
+ North American Vertical Datum.
# Depth in feet above ground.
‸ Mean Sea Level, rounded to the nearest 0.1 meter.
ADDRESSES
Unincorporated Areas of Claiborne County
Maps are available for inspection at 410 Main Street, Port Gibson, MS 39150.
Pike County, Missouri, and Incorporated Areas
Docket No.: FEMA-B-1035
Mississippi River | At the convergence with Thomas Chute | +450 | Unincorporated Areas of Pike County, City of Clarksville, City of Louisiana, Village of Annada.
| At the convergence with Gilbert Chute | +469
Noix Creek | Approximately 0.67 mile upstream of Highway 79 | +465 | Unincorporated Areas of Pike County.
| At the confluence with Bishop Branch | +477
* National Geodetic Vertical Datum.
+ North American Vertical Datum.
# Depth in feet above ground.
‸ Mean Sea Level, rounded to the nearest 0.1 meter.
ADDRESSES
City of Clarksville
Maps are available for inspection at 111 Howard Street, Clarksville, MO 63336.
City of Louisiana
Maps are available for inspection at 202 South 3rd Street, Louisiana, MO 63353.
Unincorporated Areas of Pike County
Maps are available for inspection at 115 West Main Street, Bowling Green, MO 63334.
Village of Annada
Maps are available for inspection at 232 Arlington Avenue, Annada, MO 63330.
Ralls County, Missouri, and Incorporated Areas
Docket No.: FEMA-B-1034
Bear Creek | At Lilly Avenue | +499 | Unincorporated Areas of Ralls County.
| At Hydesburg Road | +562
Mississippi River | At the divergence from Gilberts Chute | +471 | Unincorporated Areas of Ralls County.
| At the confluence with Marble Creek | +475
* National Geodetic Vertical Datum.
+ North American Vertical Datum.
# Depth in feet above ground.
‸ Mean Sea Level, rounded to the nearest 0.1 meter.
ADDRESSES
Unincorporated Areas of Ralls County
Maps are available for inspection at 311 South Main Street, New London, MO 63459.
Eastern Band of Cherokee Indians, North Carolina
Docket Nos.: FEMA-B-7767, FEMA-B-7778, FEMA-B-7734, FEMA-B-7818, and FEMA-D-7824
Adams Creek | Approximately 650 feet upstream of the confluence with the Oconaluftee River | +1874 | Eastern Band of Cherokee Indians.
| Approximately 130 feet upstream of Red Clay Road | +2233
Bates Creek | At the confluence with Hanging Dog Creek | +1529 | Eastern Band of Cherokee Indians, Unincorporated Areas of Cherokee County.
| Approximately 0.8 mile upstream of the confluence with Hanging Dog Creek | +1633
Big Witch Creek | At the confluence with Wrights Creek | +2438 | Eastern Band of Cherokee Indians.
| Approximately 1.6 mile upstream of the confluence with Wrights Creek | +3024
Blackrock Creek | At the confluence with Soco Creek | +2530 | Eastern Band of Cherokee Indians, Unincorporated Areas of Jackson County.
| Approximately 1.3 mile upstream of the confluence with Soco Creek | +3052
Bunches Creek | Approximately 150 feet upstream of the confluence with Raven Fork | +2385 | Eastern Band of Cherokee Indians.
| Approximately 0.8 mile upstream of Bunches Creek Road | +3158
Cooloska Branch | At the confluence with Snowbird Creek | +1942 | Eastern Band of Cherokee Indians, Unincorporated Areas of Graham County.
| Approximately 900 feet upstream of Massey Branch Road (State Road 1116) | +1965
Cooloska Branch Tributary 1 | At the confluence with Cooloska Branch | +1961 | Eastern Band of Cherokee Indians.
| Approximately 30 feet downstream of Jackson Branch Road (State Road 1149) | +2008
Cooper Creek | At the confluence with the Tuckasegee River | +1792 | Eastern Band of Cherokee Indians, Unincorporated Areas of Swain County.
| Approximately 100 feet upstream of Isaac Wiggins Road | +2057
Crooked Creek | At the confluence with the Tuckasegee River | +1853 | Eastern Band of Cherokee Indians, Unincorporated Areas of Jackson County.
| Approximately 1,400 feet upstream with East Dynasty Drive | +1891
Goose Creek | At the upstream side of Goose Creek Road | +1855 | Eastern Band of Cherokee Indians.
| Approximately 1,050 feet upstream of Goose Creek Road | +1904
Hanging Dog Creek | At the confluence with the Hiwassee River | +1529 | Eastern Band of Cherokee Indians, Unincorporated Areas of Cherokee County.
| Approximately 1,300 feet upstream of Running Deer Lane | +1914
Hornbuckle Creek | At the confluence with Soco Creek | +2776 | Eastern Band of Cherokee Indians, Unincorporated Areas of Cherokee County.
| Approximately 0.9 mile upstream of the confluence with Soco Creek | +3042
Little Snowbird Creek | At the confluence with Snowbird Creek | +2108 | Eastern Band of Cherokee Indians, Unincorporated Areas of Cherokee County.
| Approximately 800 feet upstream of the confluence of Hornet Nest Branch | +3288
Mountain Creek | At the confluence with the Cheoah River | +1945 | Eastern Band of Cherokee Indians, Unincorporated Areas of Cherokee County.
| Approximately 50 feet downstream of Mountain Creek Road (State Road 1214) | +2397
Pigeon Creek | Approximately 20 feet upstream of the confluence with Raven Fork | +2257 | Eastern Band of Cherokee Indians.
| Approximately 0.7 mile upstream of the confluence with Raven Fork | +2717
Raven Fork | Approximately 1,650 feet upstream of Big Cove Road | +2638 | Eastern Band of Cherokee Indians.
| Approximately 0.5 mile upstream of Big Cove Road | +2663
Snowbird Creek | At the confluence with the Cheoah River | +1942 | Eastern Band of Cherokee Indians, Unincorporated Areas of Cherokee County.
| Approximately 0.6 mile downstream of the confluence with Chestnut Flat Branch | +2207
Soco Creek | Approximately 1,100 feet downstream of U.S. Route 441 | +1936 | Eastern Band of Cherokee Indians, Unincorporated Areas of Jackson County.
| Approximately 350 feet upstream of the confluence with Hornbuckle Creek | +2808
Straight Fork | Approximately 100 feet upstream of the confluence with Raven Fork | +2455 | Eastern Band of Cherokee Indians.
| Approximately 1.0 mile upstream of the confluence with Raven Fork | +2558
Tuckasegee River | At the confluence with the Little Tennessee River | +1710 | Eastern Band of Cherokee Indians, Town of Bryson City, Unincorporated Areas of Swain County.
| At the upstream side of U.S. Route 74/441 | +1845
Wrights Creek | Approximately 500 feet upstream of the confluence with Soco Creek | +2055 | Eastern Band of Cherokee Indians.
| Approximately 0.9 mile upstream of the confluence with Big Witch Creek | +2708
* National Geodetic Vertical Datum.
+ North American Vertical Datum.
# Depth in feet above ground.
‸ Mean Sea Level, rounded to the nearest 0.1 meter.
ADDRESSES
Eastern Band of Cherokee Indians
Maps are available for inspection at the Ginger Lynn Welch Complex, 810 Acquoni Road, Cherokee, NC 28719.
Unincorporated Areas of Cherokee County
Maps are available for inspection at the Cherokee County Mapping Department/GIS, County Courthouse, 39 Peachtree Street, Suite 104, Murphy, NC 28906.
Unincorporated Areas of Graham County
Maps are available for inspection at the Graham County Mapping Department, 12 North Main Street, Robbinsville, NC 28771.
Unincorporated Areas of Jackson County
Maps are available for inspection at the Jackson County Inspections Department, 401 Grindstaff Cove Road, Suite 105, Sylva, NC 28779.
Town of Bryson City
Maps are available for inspection at the Town Manager's Office, 45 Everett Street, Bryson City, NC 28713.
Unincorporated Areas of Swain County
Maps are available for inspection at the Swain County Mapping Department, 101 Mitchell Road, Bryson City, NC 28713.
Jackson County, North Carolina, and Incorporated Areas
Docket Nos.: FEMA-B-7778 and FEMA-B-1024
Abbs Creek | At the confluence with Caney Fork | +2419 | Unincorporated Areas of Jackson County.
| Approximately 0.4 mile upstream of East Brasstown Road (State Road 1744) | +2688
Allens Branch | At the confluence with Scott Creek | +2074 | Town of Sylva, Unincorporated Areas of Jackson County.
| Approximately 1,500 feet upstream of East Nugget Lane | +2480
Barkers Creek | At the confluence with the Tuckasegee River | +1899 | Unincorporated Areas of Jackson County.
| Approximately 350 feet upstream of West Barkers Creek Road (State Road 1392) | +2022
Blackrock Creek | At the confluence with Soco Creek | +2530 | Unincorporated Areas of Jackson County.
| Approximately 1.3 mile upstream of the confluence with Soco Creek | +3052
Blanton Branch | At the confluence with Scott Creek | +2143 | Unincorporated Areas of Jackson County.
| Approximately 1,200 feet upstream of East Racking Cove (State Road 1775) | +2371
Brook Branch | At the confluence with Greens Creek | +2140 | Unincorporated Areas of Jackson County.
| Approximately 220 feet upstream of East Alpine Road | +2199
Brushy Fork | At the confluence with Greens Creek | +2261 | Unincorporated Areas of Jackson County.
| Approximately 20 feet upstream of West Brushy Fork Road (State Road 1371) | +2327
Buff Creek | At the confluence with Scott Creek | +2260 | Unincorporated Areas of Jackson County.
| Approximately 1,900 feet upstream of East Bamboo Trail | +2428
Bumgarner Branch | At the confluence with Mill Creek (into Tuckasegee River) | +2114 | Town of Sylva, Unincorporated Areas of Jackson County.
| Approximately 1,200 feet upstream of Big Orange Way | +2136
Camp Creek | At the confluence with the Tuckasegee River | +1856 | Unincorporated Areas of Jackson County.
| Approximately 50 feet upstream of East Firefly Road (State Road 1408) | +2088
Cane Branch | At the confluence with the Tuckasegee River | +1871 | Unincorporated Areas of Jackson County.
| Approximately 1,670 feet upstream of the confluence with the Tuckasegee River | +1953
Cane Creek | Approximately 50 feet upstream of East Old Cullowhee Road (State Road 1002) | +2058 | Unincorporated Areas of Jackson County.
| Approximately 2,000 feet upstream of East Old Cullowhee Road (State Road 1002) | +2122
Caney Fork | Approximately 10 feet upstream of the confluence with the Tuckasegee River | +2123 | Unincorporated Areas of Jackson County.
| Approximately 0.9 mile upstream of the confluence with Mull Creek | +2932
Cedar Creek | At the confluence with West Fork Tuckasegee River | +3499 | Unincorporated Areas of Jackson County.
| Approximately 1.1 mile upstream of East Receptive Drive | +3672
Chastine Creek | At the confluence with Caney Fork | +2550 | Unincorporated Areas of Jackson County.
| Approximately 2,000 feet upstream of East Caney Fork Road (State Road 1737) | +2824
Chattooga River | At the North Carolina/South Carolina state boundary | +2150 | Unincorporated Areas of Jackson County.
| Approximately 0.7 mile upstream of the confluence with Chattooga River Tributary 5 | +3399
Cope Creek | Approximately 80 feet upstream of the confluence with Scott Creek | +2046 | Town of Sylva, Unincorporated Areas of Jackson County.
| Approximately 50 feet upstream of East Claude Cook Road (State Road 1712) | +2396
Cox Branch | At the confluence with Cullowhee Creek | +2107 | Town of Forest Hills, Unincorporated Areas of Jackson County.
| Approximately 1,450 feet upstream of West Slate Mountain | +2204
Crooked Creek | At the confluence with the Tuckasegee River | +1853 | Unincorporated Areas of Jackson County.
| Approximately 1,400 feet upstream of East Dynasty Drive | +1891
Cullowhee Creek | Approximately 400 feet upstream of West Camp Lab Road | +2096 | Unincorporated Areas of Jackson County.
| Approximately 300 feet upstream of West Ramp Cove Road | +2367
Cullowhee Creek Tributary 3 | At the confluence with Cullowhee Creek | +2137 | Unincorporated Areas of Jackson County.
| Approximately 110 feet upstream of West Parker Farm Road (State Road 1166) | +2170
Dark Ridge Creek | At the confluence with Scott Creek | +2632 | Unincorporated Areas of Jackson County.
| Approximately 0.5 mile upstream of the confluence with Scott Creek | +2686
Dicks Creek | At the confluence with the Tuckasegee River | +1933 | Unincorporated Areas of Jackson County.
| Approximately 900 feet upstream of East Dicks Creek Road (State Road 1388) | +2216
Dills Branch | Approximately 90 feet upstream of U.S. Route 23/74 | +2021 | Town of Sylva, Unincorporated Areas of Jackson County.
| Approximately 320 feet upstream of East Dills Cove Road (State Road 1380) | +2534
Dills Creek (into Fisher Creek) | At the confluence with Fisher Creek | +2396 | Unincorporated Areas of Jackson County.
| Approximately 650 feet upstream of West Dills Branch Road | +2821
East Fork Savannah Creek | At the confluence with Savannah Creek | +2175 | Unincorporated Areas of Jackson County.
| Approximately 1,700 feet upstream of West Chickadee Lane | +2342
Fisher Creek | At the confluence with Scott Creek | +2118 | Unincorporated Areas of Jackson County.
| Approximately 150 feet upstream of West Kellogg Lane | +2467
Flat Creek | At the confluence with the Tuckasegee River | +2566 | Unincorporated Areas of Jackson County.
| Approximately 2.3 miles upstream of the confluence with the Tuckasegee River | +3275
Fowler Creek | At the confluence with the Chattooga River | +2706 | Unincorporated Areas of Jackson County.
| Approximately 1,430 feet upstream of West Chimney Top Trail | +3415
Gem Creek | At the confluence with Little Pine Creek | +3534 | Unincorporated Areas of Jackson County.
| Approximately 900 feet upstream of West Salt Rock Road (State Road 1160) | +3550
Gladie Creek | At the confluence with the Tuckasegee River | +2566 | Unincorporated Areas of Jackson County.
| Approximately 1.3 mile upstream of the confluence with the Tuckasegee River | +2644
Grassy Camp Creek | At the confluence with Norton Creek | +3632 | Unincorporated Areas of Jackson County.
| Approximately 800 feet upstream of Norton Road (State Road 1143) | +3678
Greenland Creek | At the confluence with Panthertown Creek and the Tuckasegee River | +3654 | Unincorporated Areas of Jackson County.
| Approximately 1.2 mile upstream of the confluence with Panthertown Creek and the Tuckasegee River | +3711
Greens Creek | At the confluence with Savannah Creek | +2119 | Unincorporated Areas of Jackson County.
| Approximately 1,060 feet upstream of West Sugar Fork Road (State Road 1370) | +2417
Hornbuckle Creek | At the confluence with Soco Creek | +2776 | Unincorporated Areas of Jackson County.
| Approximately 0.9 mile upstream of the confluence with Soco Creek | +3042
Horsepasture River | At the Jackson/Transylvania county boundary | +2973 | Unincorporated Areas of Jackson County.
| Approximately 0.4 mile upstream of U.S. Route 64 | +3208
Horsepasture River Tributary 4 | At the confluence with the Horsepasture River | +3141 | Unincorporated Areas of Jackson County.
| Approximately 1,400 feet upstream of the confluence with the Horsepasture River | +3147
Hurricane Creek | At the confluence with West Fork Tuckasegee River | +3499 | Unincorporated Areas of Jackson County.
| Approximately 0.8 mile upstream of North Norton Road (State Road 1145) | +3635
Jacks Creek | At the confluence with the Tuckasegee River | +1884 | Unincorporated Areas of Jackson County.
| Approximately 700 feet upstream of U.S. Route 74 | +1935
Johns Creek | At the confluence with Caney Fork | +2292 | Unincorporated Areas of Jackson County.
| Approximately 1,800 feet upstream of East Nicholson Cove Road (State Road 1748) | +2479
Kitchen Branch | At the confluence with Scott Creek | +2105 | Unincorporated Areas of Jackson County.
| Approximately 1,350 feet upstream of East Kitchen Branch Road (State Road 1442) | +2714
Knob Creek | At the confluence with Norton Creek | +3578 | Unincorporated Areas of Jackson County.
| Approximately 1,350 feet upstream of Flintlock Road | +3985
Laurel Branch | At the confluence with the Tuckasegee River | +1918 | Unincorporated Areas of Jackson County.
| Approximately 1,600 feet upstream of Cowee Tunnel Road | +2119
Little Pine Creek | At the confluence with Pine Creek | +3532 | Unincorporated Areas of Jackson County.
| Approximately 180 feet upstream of West Salt Rock Road (State Road 1160) | +3582
Little Savannah Creek | At the confluence with Savannah Creek | +2028 | Unincorporated Areas of Jackson County.
| Approximately 800 feet upstream of East Little Savannah Road (State Road 1367) | +2190
Locust Creek | Approximately 500 feet upstream of the confluence with the Tuckasegee River | +2043 | Unincorporated Areas of Jackson County.
| Approximately 0.5 mile upstream of West Match Point | +2314
Logan Creek | At the confluence with the Horsepasture River | +3158 | Unincorporated Areas of Jackson County.
| Approximately 0.6 mile upstream of U.S. Route 64 | +3170
Long Branch | Approximately 950 feet upstream of East Little Savannah Road (State Road 1367) | +2235 | Unincorporated Areas of Jackson County.
| Approximately 1,650 feet upstream of East Little Savannah Road (State Road 1367) | +2262
Long Branch (into Horsepasture River) | At the confluence with the Horsepasture River | +3128 | Unincorporated Areas of Jackson County.
| Approximately 980 feet upstream of U.S. Route 64 | +3134
Mill Creek | At the confluence with West Fork Tuckasegee River | +3499 | Unincorporated Areas of Jackson County.
| Approximately 940 feet upstream of Sunbird Lane | +3780
Mill Creek (into Tuckasegee River) | At the confluence with the Tuckasegee River | +2026 | Town of Sylva, Town of Webster, Unincorporated Areas of Jackson County.
| Approximately 150 feet upstream of the confluence with Bumgarner Branch | +2114
Monteith Branch | At the confluence with Scott Creek | +2114 | Unincorporated Areas of Jackson County.
| Approximately 1,010 feet upstream of West Razorback Trail | +3118
Moses Creek | At the confluence with Caney Fork | +2198 | Unincorporated Areas of Jackson County.
| Approximately 30 feet upstream of East Moses Creek Road | +2371
Mull Creek | At the confluence with Caney Fork | +2709 | Unincorporated Areas of Jackson County.
| Approximately 0.5 mile upstream of East Caney Fork Road (State Road 1737) | +2845
Nations Creek | At the confluence with the Tuckasegee River | +1869 | Unincorporated Areas of Jackson County.
| Approximately 0.9 mile upstream of the confluence with the Tuckasegee River | +2011
Norton Creek | At the confluence with West Fork Tuckasegee River | +3499 | Unincorporated Areas of Jackson County.
| Approximately 600 feet upstream of Jodytown Road (State Road 1150) | +3677
Norton Mill Creek | At the confluence with the Chattooga River | +2566 | Unincorporated Areas of Jackson County.
| Approximately 0.6 mile upstream of West Whiteside Cove Road (State Road 1107) | +2767
Ochre Hill Creek | At the confluence with Scott Creek | +2227 | Unincorporated Areas of Jackson County.
| Approximately 1,520 feet upstream of the confluence with Scott Creek | +2271
Panthertown Creek | At the confluence with Greenland Creek and the Tuckasegee River | +3654 | Unincorporated Areas of Jackson County.
| Approximately 0.7 mile upstream of the confluence of Panthertown Creek Tributary 1 | +3702
Panthertown Creek Tributary 1 | At the confluence with Panthertown Creek | +3662 | Unincorporated Areas of Jackson County.
| Approximately 1,540 feet upstream of the confluence with Panthertown Creek | +3674
Peewee Branch | At the confluence with Greens Creek | +2332 | Unincorporated Areas of Jackson County.
| Approximately 685 feet upstream of the confluence with Greens Creek | +2357
Pine Creek | At the confluence with West Fork Tuckasegee River | +3499 | Unincorporated Areas of Jackson County.
| Approximately 0.6 mile upstream of West Pine Creek Road (State Road 1163) | +3568
Pressley Creek | At the confluence with Tilley Creek | +2186 | Unincorporated Areas of Jackson County.
| Approximately 800 feet upstream of the confluence with Tilley Creek | +2204
Savannah Creek | At the confluence with the Tuckasegee River | +2004 | Unincorporated Areas of Jackson County.
| Approximately 0.4 mile upstream of the confluence with Shell Branch | +3081
Scott Creek | At the confluence with the Tuckasegee River | +1974 | Town of Dillsboro, Town of Sylva, Unincorporated Areas of Jackson County.
| Approximately 350 feet upstream of U.S. Route 74/23 | +3164
Scott Creek Tributary 13 | At the confluence with Scott Creek | +2127 | Unincorporated Areas of Jackson County.
| Approximately 850 feet upstream of East Skyland Drive (State Road 1432) | +2160
Shoal Creek | At the confluence with Soco Creek | +1943 | Unincorporated Areas of Jackson County.
| Approximately 1.4 mile upstream of East Olivet Church Road (State Road 1424) | +2052
Silver Run Creek | At the confluence with the Whitewater River | +3303 | Unincorporated Areas of Jackson County.
| Approximately 0.9 mile upstream of East Moody Road (State Road 1106) | +3465
Slickens Creek | At the confluence with the Tuckasegee River | +2893 | Unincorporated Areas of Jackson County.
| Approximately 1,300 feet upstream of the confluence with the Tuckasegee River | +3181
Soapstone Creek | At the confluence with Scott Creek | +2541 | Unincorporated Areas of Jackson County.
| Approximately 580 feet upstream of East Cripple Creek (State Road 1708) | +2627
Soco Creek | Approximately 1,100 feet downstream of U.S. Route 441 | +1936 | Unincorporated Areas of Jackson County.
| Approximately 350 feet upstream of the confluence with Hornbuckle Creek | +2808
Sugar Fork | At the confluence with Greens Creek | +2359 | Unincorporated Areas of Jackson County.
| Approximately 800 feet upstream of the confluence with Greens Creek | +2400
Sutton Branch | At the confluence with Savannah Creek | +2098 | Unincorporated Areas of Jackson County.
| Approximately 0.6 mile upstream of U.S. Route 23/441 | +2196
Tanasee River | At the confluence with the Tuckasegee River | +3078 | Unincorporated Areas of Jackson County.
| Approximately 0.4 mile upstream of East Tannassee Creek Road (State Road 1262) | +3157
Tatham Creek | At the confluence with Savannah Creek | +2241 | Unincorporated Areas of Jackson County.
| Approximately 1,400 feet upstream of the confluence with Savannah Creek | +2289
Tilley Creek | At the confluence with Cullowhee Creek | +2150 | Unincorporated Areas of Jackson County.
| Approximately 0.6 mile upstream of West Tilley Creek Road (State Road 1001) | +2424
Trout Creek | At the confluence with West Fork Tuckasegee River | +2439 | Unincorporated Areas of Jackson County.
| Approximately 0.4 mile upstream of East Trout Creek Road (State Road 1131) | +2771
Tuckasegee River | Approximately 150 feet downstream of the Jackson/Swain county boundary | +1835 | Town of Dillsboro, Unincorporated Areas of Jackson County.
| At the confluence with Greenland Creek and Panthertown Creek | +3654
Tuckasegee River Tributary 13 | At the confluence with the Tuckasegee River | +1849 | Unincorporated Areas of Jackson County.
| Approximately 500 feet upstream of West Thomas Cove Road (State Road 1413) | +1881
Tuckasegee River Tributary 42 | At the confluence with the Tuckasegee River | +2129 | Unincorporated Areas of Jackson County.
| Approximately 930 feet upstream of the confluence with the Tuckasegee River | +2132
Wayehutta Creek | Approximately 500 feet upstream of the confluence with the Tuckasegee River | +2080 | Unincorporated Areas of Jackson County.
| Approximately 1,260 feet upstream of East Wayehutta Road (State Road 1731) | +2096
West Fork Tuckasegee River | At the confluence with the Tuckasegee River | +2149 | Unincorporated Areas of Jackson County.
| At the confluence with Hurricane Creek | +3499
Whitewater River | At the North Carolina/South Carolina state boundary | +1961 | Unincorporated Areas of Jackson County.
| Approximately 550 feet upstream of the confluence with Silver Run Creek | +3308
Wolf Creek | At the confluence with the Tuckasegee River | +2571 | Unincorporated Areas of Jackson County.
| Approximately 2.3 miles upstream of West Canada Road | +3108
* National Geodetic Vertical Datum. | + North American Vertical Datum. | # Depth in feet above ground. | ‸ Mean Sea Level, rounded to the nearest 0.1 meter.
ADDRESSES
Town of Dillsboro
Maps are available for inspection at the Town Office, 42 Front Street, Dillsboro, NC 28725.
Town of Forest Hills
Maps are available for inspection at the Jackson County Inspections Department, 401 Grindstaff Cove Road, Suite 105, Sylva, NC 28779.
Town of Sylva
Maps are available for inspection at the Town Hall, 83 Allen Street, Sylva, NC 28779.
Town of Webster
Maps are available for inspection at the Jackson County Inspections Department, 401 Grindstaff Cove Road, Suite 105, Sylva, NC 28779.
Unincorporated Areas of Jackson County
Maps are available for inspection at the Jackson County Inspections Department, 401 Grindstaff Cove Road, Suite 105, Sylva, NC 28779.
Swain County, North Carolina, and Incorporated Areas
Docket No.: FEMA-B-7767
Adams Creek | Approximately 650 feet upstream of the confluence with the Oconaluftee River | +1874 | Eastern Band of Cherokee Indians.
| Approximately 130 feet upstream of Red Clay Road | +2233
Alarka Creek | At the confluence with the Little Tennessee River | +1710 | Unincorporated Areas of Swain County.
| Approximately 1,100 feet upstream of Unahala Creek Road (State Road 1138) | +2556
Bunches Creek | Approximately 150 feet upstream of the confluence with Raven Fork | +2385 | Eastern Band of Cherokee Indians.
| Approximately 0.8 mile upstream of Bunches Creek Road | +3158
Conley Creek | At the confluence with the Tuckasegee River | +1845 | Unincorporated Areas of Swain County.
| Approximately 1,900 feet upstream of Childers Barn Lane | +2113
Cooper Creek | At the confluence with the Tuckasegee River | +1792 | Eastern Band of Cherokee Indians, Unincorporated Areas of Swain County.
| Approximately 100 feet upstream of Isaac Wiggins Road | +2057
Deep Creek | At the confluence with the Tuckasegee River | +1740 | Town of Bryson City, Unincorporated Areas of Swain County.
| Approximately 150 feet upstream of Access Road to Deep Creek Campgrounds | +1805
Goose Creek | At the upstream side of Goose Creek Road | +1855 | Eastern Band of Cherokee Indians.
| Approximately 1,050 feet upstream of Goose Creek Road | +1904
Jenkins Branch | At the confluence with the Tuckasegee River | +1727 | Town of Bryson City.
| Approximately 200 feet upstream of Eastside Drive | +1815
Kirkland Creek | At the confluence with the Tuckasegee River | +1751 | Town of Bryson City, Unincorporated Areas of Swain County.
| Approximately 100 feet upstream of Kirklands Creek Road (State Road 1164) | +2222
Little Tennessee River | At the North Carolina/Tennessee state boundary | +1088 | Unincorporated Areas of Swain County.
| Approximately 150 feet upstream of the Swain/Macon county boundary | +1857
Nantahala River | At the confluence with the Little Tennessee River | +1710 | Unincorporated Areas of Swain County.
| At the Swain/Macon county boundary | +1985
Oconaluftee River | Approximately 1.0 mile upstream of the confluence with Raven Fork | +2056 | Unincorporated Areas of Swain County.
| Approximately 1.8 mile upstream of the confluence with Raven Fork | +2135
Pigeon Creek | Approximately 20 feet upstream of the confluence with Raven Fork | +2257 | Eastern Band of Cherokee Indians.
| Approximately 0.7 mile upstream of the confluence with Raven Fork | +2717
Raven Fork | Approximately 1,650 feet upstream of Big Cove Road | +2638 | Eastern Band of Cherokee Indians.
| Approximately 0.5 mile upstream of Big Cove Road | +2663
Shepherd Creek | At the confluence with Kirkland Creek | +1844 | Unincorporated Areas of Swain County.
| Approximately 1.4 mile upstream of the confluence with Kirkland Creek | +2232
Silvermine Creek | At the confluence with the Nantahala River | +1724 | Unincorporated Areas of Swain County.
| Approximately 100 feet upstream of Taylor Road (State Road 1104) | +2151
Straight Fork | Approximately 100 feet upstream of the confluence with Raven Fork | +2455 | Eastern Band of Cherokee Indians.
| Approximately 1.0 mile upstream of the confluence with Raven Fork | +2558
Toot Hollow Branch | At the confluence with the Tuckasegee River | +1734 | Town of Bryson City, Unincorporated Areas of Swain County.
| Approximately 330 feet upstream of Monteith Road (State Road 1334) | +1806
Tuckasegee River | At the confluence with the Little Tennessee River | +1710 | Eastern Band of Cherokee Indians, Town of Bryson City, Unincorporated Areas of Swain County.
| At the upstream side of U.S. Route 74/441 | +1845
Wesser Creek | At the confluence with Conley Creek | +1984 | Unincorporated Areas of Swain County.
| Approximately 200 feet upstream of Estes Drive | +2052
Wesser Creek (into Nantahala River) | At the confluence with the Nantahala River | +1711 | Unincorporated Areas of Swain County.
| Just downstream of the confluence with Right Fork Wesser Creek | +2201
* National Geodetic Vertical Datum. | + North American Vertical Datum. | # Depth in feet above ground. | ‸ Mean Sea Level, rounded to the nearest 0.1 meter.
ADDRESSES
Eastern Band of Cherokee Indians
Maps are available for inspection at the Ginger Lynn Welch Complex, 810 Acquoni Road, Cherokee, NC 28719.
Town of Bryson City
Maps are available for inspection at the Town Manager's Office, 45 Everett Street, Bryson City, NC 28713.
Unincorporated Areas of Swain County
Maps are available for inspection at the Swain County Mapping Department, 101 Mitchell Street, Bryson City, NC 28713.
Platte County, Nebraska, and Incorporated Areas
Docket No.: FEMA-B-1031
Loup River | Approximately 1.4 mile upstream of the confluence with the Platte River | +1432 | City of Columbus.
| At U.S. Route 81 | +1447
Platte River | At the Platte/Colfax county boundary | +1411 | City of Columbus, Unincorporated Areas of Platte County.
| Approximately 4.1 miles upstream of the Platte/Colfax county boundary | +1430
* National Geodetic Vertical Datum. | + North American Vertical Datum. | # Depth in feet above ground. | ‸ Mean Sea Level, rounded to the nearest 0.1 meter.
ADDRESSES
City of Columbus
Maps are available for inspection at City Hall, 2424 14th Street, Columbus, NE 68602.
Unincorporated Areas of Platte County
Maps are available for inspection at the Courthouse, 2610 14th Street, Columbus, NE 68601.
Merrimack County, New Hampshire, and Incorporated Areas
Docket No.: FEMA-B-1031
Merrimack River | Approximately 1 mile downstream of the confluence with the Contoocook River | +252 | City of Concord.
| Approximately 0.7 mile downstream of the confluence with the Contoocook River | +252
Warner River | Approximately 0.98 mile downstream of State Route 127 | +362 | Town of Webster.
| Approximately 1,100 feet downstream of State Route 127 | +364
* National Geodetic Vertical Datum. | + North American Vertical Datum. | # Depth in feet above ground. | ‸ Mean Sea Level, rounded to the nearest 0.1 meter.
ADDRESSES
City of Concord
Maps are available for inspection at City Hall, 41 Green Street, Concord, NH 03301.
Town of Webster
Maps are available for inspection at the Town Hall, 945 Battle Street, Webster, NH 03303.
Dodge County, Wisconsin, and Incorporated Areas
Docket No.: FEMA-B-1032
Beaver Dam Lake | Entire shoreline | +874 | City of Beaver Dam, City of Fox Lake, Unincorporated Areas of Dodge County.
Beaver Dam River | Approximately 377 feet downstream of U.S. Route 151 | +841 | City of Beaver Dam, Unincorporated Areas of Dodge County.
| Beaver Dam Lake Dam | +866
Fox Lake | Entire shoreline | +896 | City of Fox Lake, Unincorporated Areas of Dodge County.
Libby Creek | Approximately 0.25 mile downstream of Shamrock Road | +864 | Unincorporated Areas of Dodge County.
| Approximately 0.53 mile upstream of County Highway 1 | +884
Old Mill Creek | Approximately 0.51 mile downstream of County Highway P | +883 | City of Fox Lake, Unincorporated Areas of Dodge County.
| Approximately 878 feet upstream of State Highway 33 | +896
Park Creek | Approximately 0.25 mile downstream of Shaw Hill Road | +818 | Unincorporated Areas of Dodge County.
| Just upstream of North Crystal Lake Road | +895
Pratt Creek | Approximately 153 feet downstream of Sunset Road | +879 | Unincorporated Areas of Dodge County.
| Approximately 0.93 mile upstream of Fairfield Road | +903
* National Geodetic Vertical Datum. | + North American Vertical Datum. | # Depth in feet above ground. | ‸ Mean Sea Level, rounded to the nearest 0.1 meter.
ADDRESSES
City of Beaver Dam
Maps are available for inspection at 205 South Lincoln Avenue, Beaver Dam, WI 53916.
City of Fox Lake
Maps are available for inspection at 248 East State Street, Fox Lake, WI 53933.
Unincorporated Areas of Dodge County
Maps are available for inspection at 127 East Oak Street, Juneau, WI 53039.

(Catalog of Federal Domestic Assistance No. 97.022, “Flood Insurance.”)

Dated: April 13, 2010.
Sandra K. Knight,
Deputy Federal Insurance and Mitigation Administrator, Mitigation, Department of Homeland Security, Federal Emergency Management Agency.

[FR Doc. 2010-8819 Filed 4-15-10; 8:45 am]

BILLING CODE 9110-12-P